DEPARTMENT OF STATE

[Public Notice 8039]

Notice of Closed Meeting of the Cultural Property Advisory Committee

There will be a closed meeting of the Cultural Property Advisory Committee on Thursday, October 25, 2012, and on Friday, October 26, 2012, at the Department of State, Annex 5, 2201 C Street NW., Washington, DC.

The Committee will conduct interim reviews of the Memorandum of Understanding Between the Government of the United States of America and the Government of the Kingdom of Cambodia Concerning the Imposition of Import Restrictions of Archaeological Material from the Kingdom of Cambodia from the Bronze Age through the Khmer Era, and the Memorandum of Understanding Between the Government of the United States of America and the Government of the People's Republic of China Concerning the Imposition of Import Restrictions on Categories of Archaeological Material from the Paleolithic Period through the Tang Dynasty and Monumental Sculpture and Wall Art at Least 250 Years Old. Public comment, oral and written, will be invited at a time in the future should these MOUs be proposed for extension.

The Committee's responsibilities are carried out in accordance with provisions of the Convention on Cultural Property Implementation Act (19 U.S.C. 2601 et seq.). The Act and subject Memoranda of Understanding, as well as related information, may be found at http://exchanges.state.gov/heritage/culprop. This meeting will be closed pursuant to 5 U.S.C. 552b(c)(9)(B) and 19 U.S.C. 2605(h), the latter of which stipulates that “The provisions of the Federal Advisory Committee Act * * * shall apply to the [Cultural Property Advisory] Committee except that the requirements of subsections (a) and (b) of section 10 and 11 of such Act (relating to open meetings, public notice, public participation, and public availability of documents) shall not apply to the Committee, whenever and to the extent it is determined by the President or his designee that the disclosure of matters involved in the Committee's proceedings would compromise the Government's negotiation objectives or bargaining positions on the negotiations of any agreement authorized by this title.”

Dated: September 8, 2012.
Ann Stock,
Assistant Secretary, Bureau of Educational and Cultural Affairs, Department of State.

[FR Doc. 2012-23340 Filed 9-20-12; 8:45 am]

BILLING CODE 4710-05-P